DEPARTMENT OF THE INTERIOR

Fish and Wildlife Service

Notice of Availability of the Draft Comprehensive Conservation Plan and Environmental Assessment for the Alligator River National Wildlife Refuge in Dare and Hyde Counties, NC; Extension of Comment Period

AGENCY: Fish and Wildlife Service, Interior.

ACTION: Notice of extension of comment period.

SUMMARY: The availability of the Draft Comprehensive Conservation Plan and Environmental Assessment (Draft CCP/EA) was announced in the Federal Register on May 30, 2006 (71 FR 30687) for a 30-day public review and comment period ending June 29, 2006. The purpose of this notice is to extend the public review and comment period an additional 15 days.

DATES: Comments on the Draft CCP/EA received by July 14, 2006, will be considered in the preparation of the Final CCP.

ADDRESSES: All comments should be addressed to Bonnie Strawser, CCP, Alligator River National Wildlife Refuge, P.O. Box 1969, Manteo, North Carolina 27954, or direct e-mail to; bonnie_strawser@fws.gov.

FOR FURTHER INFORMATION CONTACT: Bonnie Strawser at telephone: 252/473-1131, extension 230.

SUPPLEMENTARY INFORMATION: Alligator River National Wildlife Refuge, in northeast North Carolina, consists of 152,260 acres in fee simple ownership. On the refuge, 38,533 acres are pond pine shrub pocosin; 30,400 acres are pond pine cane pocosin; 25,204 acres are brackish march; 12,236 acres are non-alluvial hardwood forest; 11,380 acres are mixed pine hardwood forest, and 8,468 acres are Atlantic white cedar swamp. These habitats support a variety of wildlife species, including red wolves, red-cockaded woodpeckers, waterfowl, shorebirds, wading birds, march birds, and netropical migratory songbirds.

The Draft CCP/EA was prepared pursuant to the National Wildlife Refuge System Administration Act of 1966, as amended by the National Wildlife Refuge System Improvement Act of 1997, and the National Environmental Policy Act of 1969. The CCP/EA describes how the Service proposes to manage the refuge over the next 15 years.

To fully ensure that the public has sufficient time to comment after the public meeting is held, an extension of 15 days is needed.

Authority: This notice is published under the authority of the National Wildlife Refuge System Improvement Act of 1997, Public Law 105-57.

Dated: June 5, 2006.
Sam D. Hamilton,
Regional Director.

[FR Doc. 06-5544 Filed 6-20-06; 8:45 am]

BILLING CODE 4310-55-M